NUCLEAR REGULATORY COMMISSION

Withdrawal of Regulatory Guide

AGENCY: Nuclear Regulatory Commission.

ACTION: Withdrawal of Regulatory Guide 6.8.

FOR FURTHER INFORMATION CONTACT: Robert G. Carpenter, U.S. Nuclear Regulatory Commission, Washington, DC 20555-0001, telephone: 301-415-6177 or e-mail to Robert.Carpenter@nrc.gov.

SUPPLEMENTARY INFORMATION:

I. Introduction

The U.S. Nuclear Regulatory Commission (NRC) is withdrawing Regulatory Guide 6.8, “Identification Plaque for Irretrievable Well-Logging Sources,” published in October 1978. Regulatory Guide 6.8 provides guidance on acceptable design and mounting practices of the plaques, which are placed at the surface of wells to indicate the presence of an irretrievable well-logging source. The NRC is withdrawing this regulatory guide because it is no longer required.

Regulatory Guide 6.8 references Title 10 of the Code of Federal Regulations (10 CFR), Sections 30 and 70, which no longer contain guidance for design or mounting of identification plaques. The current regulation regarding the identification plaques is found in 10 CFR 39.15, “Agreement with Well Owner or Operator.” Regulatory Guide 6.8 is no longer required because the current regulations in 10 CFR 39.15(a)(5) provide a specific description for the design and mounting of identification plaques for irretrievable well-logging sources. The instruction in 10 CFR 39.15(a)(5) is sufficient without further guidance.

II. Further Information

The withdrawal of Regulatory Guide 6.8 does not alter any prior or existing licensing commitments based on its use. The guidance provided in this regulatory guide is no longer necessary. Regulatory guides may be withdrawn when their guidance is superseded by congressional action or no longer provides useful information.

Regulatory guides are available for inspection or downloading through the NRC's public Web site under “Regulatory Guides” in the NRC's Electronic Reading Room at http://www.nrc.gov/reading-rm/doc-collections. Regulatory guides are also available for inspection at the NRC's Public Document Room (PDR), Room O-1 F21, One White Flint North, 11555 Rockville Pike, Rockville, MD 20852-2738. The PDR's mailing address is U.S. NRC PDR, Washington, DC 20555-0001. You can reach the PDR staff by telephone at 301-415-4737 or 800-397-4209, by fax at 301-415-3548, and by e-mail to pdr.resource@nrc.gov.

Regulatory guides are not copyrighted, and Commission approval is not required to reproduce them.

Dated at Rockville, Maryland, this 8th day of October 2008.
For the Nuclear Regulatory Commission.
Andrea D. Valentin,
Chief, Regulatory Guide Development Branch, Division of Engineering, Office of Nuclear Regulatory Research.

[FR Doc. E8-24504 Filed 10-14-08; 8:45 am]

BILLING CODE 7590-01-P